DEPARTMENT OF TRANSPORTATION

Office of the Secretary

Aviation Proceedings, Agreements Filed the Week Ending December 1, 2006

The following Agreements were filed with the Department of Transportation under the Sections 412 and 414 of the Federal Aviation Act, as amended (49 U.S.C. 1382 and 1384) and procedures governing proceedings to enforce these provisions. Answers may be filed within 21 days after the filing of the application.

Docket Number: OST-2006-26465.

Date Filed: November 27, 2006.

Parties: Members of the International Air Transport Association.

Subject: MAIL VOTE NUMBER A133, PAC2 (Mail A133), Amendments to Financial Criteria—Finland, Intended effective date: January 1, 2007.

Docket Number: OST-2006-26520.

Date Filed: December 1, 2006.

Parties: Members of the International Air Transport Association.

Subject: PTC COMP Mail Vote 518, Resolution 210 Charge for PTA Services, (Memo 1368), Intended effective date: December 10, 2006,

Renee V. Wright,
Program Manager, Docket Operations, Federal Register Liaison.

[FR Doc. E6-21182 Filed 12-12-06; 8:45 am]

BILLING CODE 4910-9X-P